FEDERAL ELECTION COMMISSION

Sunshine Act Meeting

FEDERAL REGISTER CITATION NOTICE OF PREVIOUS ANNOUNCEMENT: 83 FR 52832.

PREVIOUSLY ANNOUNCED TIME AND DATE OF THE MEETING: Tuesday, October 23, 2018 at 10:00 a.m.

CHANGES IN THE MEETING: The meeting was continued on Thursday, October 25, 2018.

* * * * *

CONTACT PERSON FOR MORE INFORMATION: Judith Ingram, Press Officer, Telephone: (202) 694-1220.

Laura E. Sinram,
Deputy Secretary of the Commission.

[FR Doc. 2018-23717 Filed 10-25-18; 4:15 pm]

BILLING CODE 6715-01-P